DEPARTMENT OF THE INTERIOR

National Park Service

[N6635; NPS-WASO-NAGPRA-NPS0041367; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of associated funerary objects and has determined that there is a cultural affiliation between the associated funerary objects and Indian Tribes or Native Hawaiian organizations in this notice.

DATES: Repatriation of the associated funerary objects in this notice may occur on or after January 15, 2026.

ADDRESSES: Send written requests for repatriation of the associated funerary objects in this notice to Laura Bryant, Gilcrease Museum, 1400 N. Gilcrease Museum Road, Tulsa, OK 74127, email laura-bryant@utulsa.edu.

SUPPLEMENTARY INFORMATION: This notice is published as part of the National Park Service's administrative responsibilities under NAGPRA. The determinations in this notice are the sole responsibility of the Gilcrease Museum, and additional information on the determinations in this notice, including the results of consultation, can be found in its inventory or related records. The National Park Service is not responsible for the determinations in this notice.

Abstract of Information Available

The 484 associated funerary objects are sherds, daub, bone tools, projectile points, and lithic tools. Harry J. Lemley and S.D. Dickinson excavated these from Kirkham Place (3CL29) in Clark County, AR in December 1938.

The 27 associated funerary objects are ceramic vessels and pipe bowls. Rev. O.N. Wehunt removed these from Jim Williamson Place in Garland County, AR in 1929. Harry J. Lemley acquired these from him at an unknown date.

The 32 associated funerary objects are stone beads, ceramic vessels, lithic tools, and shell gorgets and pendants. In 1900, H.A. McCants removed these from Joe Russell Place (3LA91, 3LA245, 3LA246) in Lafayette County, AR. Harry J. Lemley later acquired these.

The 135 associated funerary objects are ceramic vessels, bone and antler tools, shell ornaments, faunal remains, lithic tools, and pipe bowls. Gamel Smith removed these from Lester's Brother's Place (3LA38, 3LA48) in Lafayette County, AR in the early 20th century. Harry J. Lemley later acquired these.

The 333 associated funerary objects are projectile points, ceramic vessels, sherds, lithic tools, pipe bowls, celts, pendants, ear spools, axes, boatstones, shells, and corn. Various individuals, including Dan Jenkins, removed items from Battle Place/William Handy Place (3LA0001) in Lafayette County, AR throughout the early 20th century. Harry J. Lemley acquired these at different times in the early to mid-20th century from these individuals.

The 1,864 associated funerary objects are ceramic vessels, sherds, projectile points, beads, pipe bowls, celts, lithic tools, quartz, hammerstones, boatstones, copper ornaments, bone and antler tools, ear spools, pigments, pendants, worked shells, and woven fragments. Harry J. Lemley removed these from Crenshaw Place in Miller County, AR (3MI6) in 1935.

All items above were purchased by the Gilcrease Foundation purchased from Harry J. Lemley in 1955 and later transferred the collection to the City of Tulsa in 1963-1964.

The one associated funerary object is a ceramic vessel. Gregory Perino, a curator at Gilcrease Museum at the time, removed these from Haley Place (3MI11) in Miller County, AR in 1967.

The 50 associated funerary objects are ceramic vessels, sherds, nut or seed fragments, projectile points, and lithic tools. Frank Soday, an avocational archaeologist, removed these from Carroll Givens Mound (3OU27, Soday site 380) in Ouachita County, AR in 1950.

The 90 associated funerary objects are sherds, lithic tools, and projectile points. Frank Soday removed these from Hindman Mound (Soday site 306) in Ouachita County, AR between 1948 and 1950.

The 28 associated funerary objects are projectile points, lithic flakes, shells, quartz, faunal remains, sherds, lithic tools, and a glass fragment. Frank Soday removed these from Freo Island (Soday site 371) in Ouachita County, AR in 1950.

The 59 associated funerary objects are ceramic vessels, sherds, charcoal, lithic tools, shells, and faunal remains. Frank Soday removed these from Matkins Bee Ranch/Stone Trestle Mound (3OU005, Soday sites 369 and 378) in Ouachita County, AR in 1951.

The two associated funerary objects are sherds and projectile points. Frank Soday removed these from Ritchie Place (Soday site 367) in Ouachita County, AR in 1950.

The 80 associated funerary objects are ceramic vessels, sherds, marine shells, turtle shells, antlers, lithic tools, projectile points, and faunal remains. Frank Soday removed these from J. M. Nelson Farm (3UN8, Soday site 325) in Union County, AR between 1948 and 1950.

The three associated funerary objects are sherds and lithic tools. Frank Soday removed these from Lapile Mound Village (Soday site 551) in Union County, Arkansas in 1955.

The three associated funerary objects are sherds and lithic tools. Frank Soday removed these from Watt Mound (3UN18 or 3UN22, Soday site 342) in Union County, AR in 1949.

The material above, as part of Frank and Norma Soday's collection, was purchased by the Thomas Gilcrease Museum Association in 1982 and then gifted to Gilcrease Museum.

Cultural Affiliation

Based on the information available and the results of consultation, cultural affiliation is clearly identified by the information available about the associated funerary objects described in this notice.

Determinations

The Gilcrease Museum has determined that:

• The 3,191 objects described in this notice are reasonably believed to have been placed intentionally with or near individual human remains at the time of death or later as part of the death rite or ceremony.

• There is a connection between the associated funerary objects described in this notice and the Caddo Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after January 15, 2026. If competing requests for repatriation are received, the Gilcrease Museum must determine the most appropriate requestor prior to repatriation. Requests for joint repatriation of the associated funerary objects are considered a single request and not competing requests. The Gilcrease Museum is responsible for sending a copy of this notice to the Indian Tribes and Native Hawaiian organizations identified in this notice and any other consulting parties.

Authority: Native American Graves Protection and Repatriation Act, 25 U.S.C. 3003, and the implementing regulations, 43 CFR 10.10.

Dated: November 19, 2025.
Melanie O'Brien,
Manager, National NAGPRA Program.

[FR Doc. 2025-22911 Filed 12-15-25; 8:45 am]

BILLING CODE 4312-52-P